FEDERAL DEPOSIT INSURANCE CORPORATION

Agency Information Collection Activities: Revision of an Information Collection; Comment Request

AGENCY: Federal Deposit Insurance Corporation (FDIC).

ACTION: Notice and request for comment.

SUMMARY: The FDIC, as part of its continuing effort to reduce paperwork and respondent burden, invites the general public and other Federal agencies to comment on the proposed revision of an information collection, as required by the Paperwork Reduction Act (PRA, 44 U.S.C. chapter 35). Currently, the FDIC is soliciting comments concerning an information collection currently titled “Deposit Broker Processing.”

DATES: Comments must be submitted on or before May 13, 2005.

ADDRESSES: Interested parties are invited to submit written comments to Thomas Nixon, Legal Division, Federal Deposit Insurance Corporation, 550 17th Street, NW., Washington, DC 20429. All comments should refer to “Deposit Broker Processing.” Comments may be hand-delivered to the guard station at the rear of the 17th Street Building (located on F Street), on business days between 7 a.m. and 5 p.m. Comments may also be submitted to the Office of Management and Budget (OMB) desk officer for the FDIC: Mark Menchik, Office of Information and Regulatory Affairs, OMB, New Executive Office Building, Washington, DC 20503.

FOR FURTHER INFORMATION CONTACT: Thomas Nixon, (202) 898-8766, or at the address above.

SUPPLEMENTARY INFORMATION: Proposal to revise the following currently approved collection of information:

Title: Deposit Broker Processing.

OMB Number: 3064-0143.

Affected Public: Deposit brokers and depositors of failed insured institutions.

Information about the Collection: When an insured institution is closed by its primary regulatory authority, the FDIC has the responsibility to pay the insured claims of the failed bank depositors pursuant to Federal Deposit Insurance Act and the FDIC's Deposit Insurance Coverage regulation, 12 CFR part 330. Generally, deposits are insured to a maximum of $100,000. This maximum coverage is based on “ownership rights and capacities.” All deposits that are maintained in the same right and capacity are added together and insured up to $100,000 in accordance with the regulations relating to deposit insurance of that particular deposit insurance ownership category. Deposits held in different ownership categories are eligible for $100,000 coverage per category. For example, as a general rule, single-ownership accounts are separately insured from trust accounts held for the benefit of others.

In order to assist the FDIC in paying deposit insurance to persons who had deposited funds in a failed depository institution through a deposit broker, the FDIC requests deposit brokers who opened a deposit account in a failed institution to provide the FDIC with information about the parties for whom the broker acted as agent and the amounts of their deposits. An essential element of this collection is an electronic file from every broker that provides information about its customers and their accounts, including: each customer's name, address, tax identification number, ownership interest in the account, principal balance of the account and interest earned on the account. The FDIC also has developed forms to assist in determining account ownership and the availability of “pass-through” deposit insurance coverage where the account balance exceeds $100,000. The FDIC form numbers are 7200/03, /04, /05, /06, /07, /08, /09, /10, /11, /12, /13, /14, and /15.

The FDIC uses these same forms to determine whether individual account holders at failed institutions may receive pass-through deposit insurance coverage. The FDIC's use of these forms for individuals has been approved by OMB under PRA control number 3064-0150 (expires September 30, 2007).

In order to facilitate public access to the common forms and to improve administrative efficiency, the FDIC proposes to consolidate the two OMB approved collections into a single collection titled, “Forms Relating to Processing Deposit Insurance Claims,” under the 3064-0143 control number.

Burden estimate, deposit brokers only.

Frequency of response: occasional.

| Burden per response | Number of responses | Burden hours
Deposit Broker Submission Checklist | 5 minutes | 70 | 6
Diskette, following “Broker Input File Requirements” | The burden will vary depending on the broker's number of brokered accounts.
| 45 minutes | ¹ 53 | 40
| 5 hours | ² 18 | 90
Exhibit B, the standard agency agreement, or the non-standard agency agreement | 1 minute | 70 | 1
Subtotal |  |  | 137
¹ 75% of 70 annual responses.
² 25% of 70 annual responses.

Burden estimate, combined deposit brokers and individuals.

Frequency of response: Occasional.

Form No. | Form title | Hours | Respondents | Burden hours
7200/03 | Declaration for Testamentary Deposit (Single Grantor) | .50 | 1000 | 500
7200/04 | Declaration for Public Unit Deposit | .50 | 500 | 250
7200/05 | Declaration for Trust | .50 | 1100 | 550
7200/06 | Declaration of Independent Activity | .50 | 25 | 12.5
7200/07 | Declaration of Independent Activity for Unincorporated Association | .50 | 25 | 12.5
7200/08 | Declaration for Joint Ownership Deposit | .50 | 25 | 12.5
7200/09 | Declaration for Testamentary Deposit (Multiple Grantors) | .50 | 500 | 250
7200/10 | Declaration for Defined Contribution Plan | 1.0 | 50 | 50
7200/11 | Declaration for IRA/KEOGH Deposit | .50 | 50 | 25
7200/12 | Declaration for Defined Benefit Plan | 1.0 | 200 | 200
7200/13 | Declaration of Custodian Deposit | .50 | 50 | 25
7200/14 | Declaration for Health and Welfare Plan | 1.0 | 200 | 200
7200/15 | Declaration for Plan and Trust | .50 | 1300 | 650
Subtotal |  |  | 5025 | 2738

Total burden estimate: 2875 hours.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's request to OMB for renewal of this collection. All comments will become a matter of public record.

Dated at Washington, DC, this 9th day of March 2005.
Federal Deposit Insurance Corporation.
Robert E. Feldman,
Executive Secretary.

[FR Doc. 05-4974 Filed 3-11-05; 8:45 am]

BILLING CODE 6714-01-P